DEPARTMENT OF COMMERCE

National Oceanic and Atmospheric Administration

50 CFR Part 660

[Docket No. 051014263-6028-03; I.D. 092106A]

Fisheries Off West Coast States; Pacific Coast Groundfish Fishery; Specifications and Management Measures; Inseason Adjustments

AGENCY: National Marine Fisheries Service (NMFS), National Oceanic and Atmospheric Administration (NOAA), Commerce.

ACTION: Inseason adjustments to groundfish management measures; request for comments.

SUMMARY: NMFS announces changes to management measures in the commercial and recreational Pacific Coast groundfish fisheries. These actions, which are authorized by the Pacific Coast Groundfish Fishery Management Plan (FMP), are intended to allow fisheries to access more abundant groundfish stocks while protecting overfished and depleted stocks.

DATES: Effective 0001 hours (local time) October 1, 2006. Comments on this rule will be accepted through November 2, 2006.

ADDRESSES: You may submit comments, identified by I.D. 092106A by any of the following methods:

• E-mail: GroundfishInseason10.nwr@noaa.gov. Include I.D. 092106A in the subject line of the message.

• Federal eRulemaking Portal: www.regulations.gov. Follow the instructions for submitting comments.

• Mail: D. Robert Lohn, Administrator, Northwest Region, NMFS, Attn: Jamie Goen, 7600 Sand Point Way NE, Seattle, WA 98115-0070.

• Fax: 206-526-6736, Attn: Jamie Goen.

FOR FURTHER INFORMATION CONTACT: Jamie Goen (Northwest Region, NMFS), phone: 206-526-6150; fax: 206-526-6736; or e-mail: jamie.goen@noaa.gov.

SUPPLEMENTARY INFORMATION:

Electronic Access

This Federal Register document is available on the Government Printing Office's website at: www.gpoaccess.gov/fr/index.html.

Background information and documents are available at the Pacific Fishery Management Council's (Pacific Council's) website at: www.pcouncil.org.

Background

The Pacific Coast Groundfish FMP and its implementing regulations at Title 50 in the Code of Federal Regulations (CFR), part 660, subpart G, regulate fishing for over 80 species of groundfish off the coasts of Washington, Oregon, and California. Groundfish specifications and management measures are developed by the Pacific Council, and are implemented by NMFS. The specifications and management measures for 2005-2006 were codified in the CFR (50 CFR part 660, subpart G). They were published in the Federal Register as a proposed rule on September 21, 2004 (69 FR 56550), and as a final rule on December 23, 2004 (69 FR 77012). The final rule was subsequently amended on March 18, 2005 (70 FR 13118); March 30, 2005 (70 FR 16145); April 19, 2005 (70 FR 20304); May 3, 2005 (70 FR 22808); May 4, 2005 (70 FR 23040); May 5, 2005 (70 FR 23804); May 16, 2005 (70 FR 25789); May 19, 2005 (70 FR 28852); July 5, 2005 (70 FR 38596); August 22, 2005 (70 FR 48897); August 31, 2005 (70 FR 51682); October 5, 2005 (70 FR 58066); October 20, 2005 (70 FR 61063); October 24, 2005 (70 FR 61393); November 1, 2005 (70 FR 65861); and December 5, 2005 (70 FR 723850). Longer-term changes to the 2006 specifications and management measures were published in the Federal Register as a proposed rule on December 19, 2005 (70 FR 75115), and as a final rule on February 17, 2006 (71 FR 8489). The final rule was subsequently amended on March 27, 2006 (71 FR 10545), April 11, 2006 (71 FR 18227), April 26, 2006 (71 FR 24601), May 11, 2006 (71 FR 27408), May 22, 2006 (71 FR 29257), June 1, 2006 (71 FR 31104), July 3, 2006 (71 FR 37839), August 7, 2006 (71 FR 44590), and August 22, 2006 (71 FR 48824).

The changes to current groundfish management measures implemented by this action were recommended by the Pacific Council, in consultation with Pacific Coast Treaty Indian Tribes and the States of Washington, Oregon, and California, at its September 11-15, 2006, meeting in Foster City, CA. At that meeting, the Pacific Council recommended: (1) increasing the widow rockfish bycatch limit and decreasing the canary rockfish bycatch limit for the commercial limited entry non-tribal primary whiting fishery; (2) increasing the limited entry trawl trip limits coastwide in Period 6 (November-December) for sablefish and petrale sole; (3) closing the open access daily trip limit (DTL) fishery for sablefish north of 36° N. lat. beginning October 1; (4) increasing the limited entry fixed gear and open access DTL fishery for sablefish south of 36° N. lat. beginning October 1; and (5) prohibiting retention of vermilion rockfish by boat anglers in the recreational fishery seaward of the state of Oregon. In addition, NMFS is correcting an error in the footnote for yelloweye rockfish in Table 2b to part 660, subpart G. Pacific Coast groundfish landings will be monitored throughout the year and further adjustments to trip limits or management measures will be made as necessary to allow achievement of, or to avoid exceeding, optimum yields (OYs).

Limited Entry Trawl Non-tribal Whiting Fishery Bycatch Limits for Widow and Canary Rockfish

The Pacific Council considered adjusting the bycatch limits for widow rockfish and canary rockfish in the non-tribal whiting fisheries. An increase in the widow bycatch limit for the non-tribal whiting fishery would buffer against the possibility of a disaster tow that might shut down the fishery before the whiting quota is achieved. A decrease in the canary bycatch limit would provide a precautionary adjustment to the projected total mortality of canary rockfish for all fisheries (commercial, recreational, EFP, and research) while still allowing the whiting quota to be achieved, based on current information about the fishery's bycatch rates.

The Pacific Council considered whether to increase the bycatch limits for widow rockfish in the non-tribal whiting fishery above the 200 mt specified in regulation. Bycatch of widow rockfish in the whiting fishery was estimated in NMFS Whiting Report #12 to be at 186.47 mt through September 5, 2006. The whiting fishery is nearing the end of its seasons for the various sectors. The shorebased fishery has already closed. The mothership fishery has approximately 5,000 mt (approximately 9 percent of allocation) remaining, and the catcher/processor fishery has approximately 15,000 mt (approximately 20 percent of allocation) remaining. Catch of widow rockfish in the non-tribal whiting fishery is expected to remain low through the remainder of the season. However, widow rockfish tends to be taken sporadically and in infrequent but large amounts. This makes widow rockfish bycatch rates difficult to predict, and there have been past unexpectedly high tows upwards of 20 mt. Therefore, while catch of widow rockfish is expected to remain low, the Pacific Council considered increasing the widow bycatch limit enough to cover an unexpectedly high tow of approximately 20 mt. Increasing the bycatch limit from 200 mt to 220 mt should provide enough widow rockfish to allow the whiting fisheries to catch their whiting allocations without the threat of a single large widow tow shutting non-tribal whiting fisheries down early. In addition, an increase in the widow rockfish bycatch limit to 220 mt is still well within the projected total mortality of widow rockfish (258 mt projected total mortality for all fisheries out of a 289 mt widow rockfish OY).

The Pacific Council also considered a decrease in the canary rockfish bycatch limit to provide a precautionary adjustment to the projected total mortality of canary rockfish for all fisheries (commercial, recreational, EFP, and research). Catch of canary rockfish by research vessels is higher than projected for 2006. Previously, an advisory body to the Pacific Council, the Groundfish Management Team (GMT), had projected 3 mt of canary rockfish would be taken as 2006 research catch in their bycatch scorecard. The bycatch scorecard is a tool used by the GMT to track estimated and projected total mortality of overfished species for the year.

Based on preliminary information from research vessels to date, the 2006 research catch is now 7.5 mt (7.2 mt from the NMFS triennial trawl survey and 0.3 mt from research off Oregon). Additional catch of canary rockfish is likely to occur as the NMFS triennial trawl survey continues from Eureka to San Diego, California. The GMT reviewed historical survey trend data from 2003-2005 and estimated that an additional 0.3 mt should cover the remainder of the research catch for that area. However, the survey vessel is conducting its survey in the area between 41° N. latitude and 40°10′ N. latitude (off of Eureka), which is a known “hot spot” area for canary rockfish. While more than 90 percent of the canary rockfish take in the historical triennial trawl survey occurs north of Eureka, there is the potential for an unexpectedly high tow of canary rockfish. Therefore, the GMT suggested increasing the potential additional research catch from 0.3 mt to 1.0 mt, which should buffer against the potential for a high tow of canary rockfish. Thus, the total projection for canary rockfish mortality from research in the bycatch scorecard will be increased to 8.5 mt through the end of the year (7.5 mt current total mortality plus 1.0 mt projected total mortality for research during the remainder of the year).

Because the mortality of canary rockfish from research is estimated to be much higher in 2006 than estimated in pre-season projections, the Pacific Council reviewed the bycatch scorecard for estimated mortality of canary rockfish in other fisheries. Some ongoing fisheries are tracking behind their projected take of canary rockfish. The non-tribal whiting fisheries have taken 2.5 mt out of their 4.7 mt canary rockfish bycatch limit. The tribal whiting fishery has taken 0.3 mt through August out of a projected 1.6 mt canary mortality, and the tribal midwater trawl fishery is also tracking behind in the bycatch scorecard. In addition, recreational fisheries are tracking behind their estimated take of canary rockfish at this time. Thus, there is the potential for canary rockfish total mortality to come in below the bycatch scorecard projections for the year.

Even with many fisheries tracking behind their projected canary rockfish take for the year, the Pacific Council recommended reducing the canary rockfish bycatch limit in the non-tribal whiting fishery from 4.7 mt to 4.0 mt in regulation, as a precautionary measure. The non-tribal whiting fishery is estimated to have taken 2.5 mt out of their 4.7 mt canary rockfish bycatch limit, as of September 5, 2006. As a comparison, the non-tribal whiting fishery took 3.3 mt of canary rockfish in its 2005 season. Given other updates to the bycatch scorecard, the non-tribal whiting bycatch limit would need to be reduced to 4.0 mt, to ensure that estimates within the scorecard remain within the 2006 OY for canary rockfish. With the shorebased fishery closed and limited amounts of the whiting allocation remaining for the mothership and catcher/processor sector, the non-tribal whiting fishery will likely remain within the lower 4.0 mt canary rockfish bycatch limit.

With all of the updates to the bycatch scorecard, projected total mortality of canary rockfish for the year in the bycatch scorecard is 47.1 mt, equivalent to the OY for 2006, while widow rockfish is projected to be 278 mt, below the OY of 289 mt. However, as mentioned previously, many fisheries are expected to come in below their projections of canary rockfish take for the year. The Pacific Council's GMT anticipates updating the bycatch scorecard with new inseason information at the Council's November 13-17, 2006, meeting.

Therefore, the Pacific Council recommended and NMFS is implementing a reduction in the canary rockfish bycatch limit from 4.7 mt to 4.0 mt, and an increase in the widow rockfish bycatch limit from 200 mt to 220 mt.

Limited Entry Trawl Trip Limits

Catch of petrale sole and sablefish in the limited entry bottom trawl fisheries is tracking behind projections. The Pacific Council considered increasing trip limits in Period 6 (November-December) to 70,000 lb (31,752 kg) per 2 months for petrale sole and to 20,000 lb (9,072 kg) per 2 months for sablefish to provide some increase in fishing opportunity while staying within the OYs for these species. North of 40°10′ N. lat., these increases would only apply seaward of the trawl rockfish conservation area (RCA). The Pacific Council also considered whether increased catches of these species could be accommodated without increasing impacts on overfished species beyond what is projected to remain within the OY. These trip limit changes would increase the estimated mortality of the following overfished species: bocaccio, darkblotched rockfish and Pacific Ocean perch (POP). However, the estimated impacts on these overfished species as a result of the trip limit adjustments, combined with all estimated mortality, are within the 2006 OYs for those species.

Therefore, the Pacific Council recommended and NMFS is implementing trip limit adjustments for the limited entry bottom trawl fishery in Period 6 (November-December) as follows: (1) north of 40°10′ N. lat., increase petrale sole trip limits from 60,000 lb (27,216 kg) per 2 months to 70,000 lb (31,752 kg) per 2 months for large and small footrope trawl gear; (2) north of 40°10′ N. lat., increase sablefish trip limits from 14,000 lb (6.350 kg) per 2 months to 20,000 lb (9,072 kg) per 2 months for large and small footrope trawl gear; (3) south of 40°10′ N. lat., increase petrale sole trip limits from 60,000 lb (27,216 kg) per 2 months to 70,000 lb (31,752 kg) per 2 months; and (4) south of 40°10′ N. lat., increase sablefish trip limits from 17,000 lb (7,711 kg) per 2 months to 20,000 lb (9,072 kg) per 2 months.

Open Access DTL Fishery for Sablefish North of 36° N. lat.

Catch of sablefish in the open access (OA) DTL fishery continues to be higher than in previous years. To slow the catch of sablefish earlier in the year, NMFS reduced the OA sablefish daily trip limit, or DTL, fishery cumulative trip limit north of 36° N. lat. from 5,000 lb (2,268 kg) per 2 months to 3,000 lb (1,361 kg) per 2 months (71 FR 24601, April 26, 2006). The Council recommended this reduction in anticipation of a large influx of fishing effort into the sablefish DTL fishery from vessels unable to participate in this year's highly restricted salmon fishery. Reducing the cumulative limit was intended to provide for a longer season, which was thought to most benefit fishers who have historically participated in the year-round fishery.

To date, the catch of OA sablefish is higher in 2006 than catch projected from historical data. This supports the assumptions that restrictions in the salmon fishery may have led to increased effort in the OA sablefish DTL fishery. PacFIN estimates the OA sablefish DTL catch through August to be 524 mt, out of a 613 mt harvest guideline north of 36° N. lat. Given that this sector has caught an average of 70-80 mt of sablefish per month since March, the OA DTL fishery is expected to attain their sablefish allocation in early October.

Therefore, the Pacific Council recommended and NMFS is implementing a reduction in the OA sablefish DTL fishery trip limits north of 36° N. lat. beginning October 1 from “300 lb (136 kg) per day, or 1 landing per week of up to 1,000 lb (454 kg), not to exceed 3,000 lb (1,361 kg) per 2 months” to “closed.”

Limited Entry Fixed Gear & Open Access DTL Fishery for Sablefish South of 36° N. lat.

While OA DTL fisheries north of 36° N. lat. are tracking ahead of schedule, limited entry fixed gear and OA sablefish DTL fisheries south of 36° N. lat. are tracking behind schedule. PacFIN data through the end of August estimates that 52 mt out of a 271-mt total catch OY have been taken south of 36° N. lat. There is not an allocation between limited entry or open access sablefish fisheries in this area.

Because sablefish fisheries south of 36° N. lat. are tracking behind schedule, the Pacific Council discussed increasing trip limits for the limited entry fixed gear and OA sablefish DTL fisheries south of 36° N. lat. from 350 lb (159 kg) per day to 500 lb (227 kg) per day beginning October 1, leaving the weekly limit the same. Leaving the weekly limit the same is intended to discourage increased effort from shifting from waters north of 36° N. lat., which will close October 1. This action would not increase estimated impacts on overfished species, including canary rockfish, because estimated mortality for overfished species for the year assume that this sector will achieve its allocation.

Therefore, the Pacific Council recommended and NMFS is implementing an increase in the limited entry fixed gear and OA sablefish DTL fishery trip limits south of 36° N. lat. beginning October 1 from “350 lb (159 kg) per day, or 1 landing per week of up to 1,050 lb (476 kg)” to “500 lb (227 kg) per day, or 1 landing per week of up to 1,050 lb. (476 kg).”

Oregon Recreational Fishery

Vermilion rockfish is a federally-managed species under the Pacific Coast Groundfish FMP. However, the state of Oregon has more restrictive state harvest limits for vermilion rockfish than the federal limits. The federal and state governments work cooperatively to manage the OYs for Pacific Coast groundfish species, such as vermilion rockfish, from 0-200 nm.

In the Oregon recreational groundfish fishery, the Oregon Department of Fish and Wildlife (ODFW) manages vermilion rockfish under a state harvest limit as part of the “other nearshore rockfish” aggregate, which also includes brown, china, copper, grass, quillback, and tiger rockfishes). In June, the catch rate of the “other nearshore rockfish” aggregate was tracking higher than expected and projections showed that without action, the harvest limit would be prematurely attained. Vermilion rockfish represented approximately half of the landings in the “other nearshore rockfish” aggregate. ODFW took management action specific to vermilion rockfish to prevent the “other nearshore rockfish” aggregate from reaching the Oregon state harvest limit. Effective June 24, 2006, ODFW prohibited the retention of vermilion rockfish in the recreational ocean and estuary boat fisheries.

Therefore, in order to conform recreational management measures for Federal waters (3-200 nm) to management measures for Oregon state waters (0-3 nm), the Pacific Council recommended and NMFS is implementing a prohibition on the retention of vermilion rockfish by boat anglers in Federal recreational regulations off Oregon.

Yelloweye Rockfish Recreational Harvest Guideline Boundary Correction

NMFS is correcting an error in the footnote for yelloweye rockfish in Table 2b to part 660, subpart G. Table 2b is part of the acceptable biological catch (ABC)/OY tables. Footnote aa/ for yelloweye rockfish was revised on May 22, 2006 (71 FR 29257). In the preamble for this revision, NMFS explained that the recreational harvest guideline is divided north and south of the Oregon/California border, at 42° N. lat., as recommended by the Pacific Council and as analyzed in the Environmental Impact Statement for the 2005-2006 groundfish specifications and management measures. However, the footnote in the table divided the recreational harvest guideline at the wrong place, at 40°10′ N. lat. Therefore, NMFS is correcting footnote aa/ for yelloweye rockfish to break the recreational harvest guideline at 42° N. lat. (Oregon/California border) instead of 40°10′ N. lat. The recreational harvest guideline of 6.7 mt is managed jointly by Oregon and Washington north of 42° N. lat., and the recreational harvest guideline of 3.7 mt is managed by California south of 42° N. lat. This correction is necessary for the states to be able to manage their respective state harvest guidelines consistent with the record and intent for this fishery.

Classification

These actions are taken under the authority of 50 CFR 660.370(c) and are exempt from review under Executive Order 12866.

These actions are authorized by the Pacific Coast groundfish FMP and its implementing regulations, and are based on the most recent data available. The aggregate data upon which these actions are based are available for public inspection at the Office of the Administrator, Northwest Region, NMFS, (see ADDRESSES) during business hours.

Pursuant to 5 U.S.C. 553(b)(B), there is good cause to waive prior notice and opportunity for public comment on this action, as notice and comment would be impracticable. The data upon which these recommendations were based was provided to the Pacific Council, and the Pacific Council made its recommendations at its September 11-15, 2006, meeting in Foster City, CA. There was not sufficient time after that meeting to draft this notice and undergo proposed and final rulemaking before these actions need to be in effect. For the actions to be implemented in this notice, prior notice and opportunity for comment would be impracticable because affording the time necessary for prior notice and opportunity for public comment would impede the Agency's function of managing fisheries using the best available science to approach without exceeding the OYs for federally managed species. The adjustments to management measures in this document affect commercial and recreational groundfish fisheries. Changes to the limited entry non-whiting trawl fishery must be implemented in a timely manner by November 1, 2006, to allow fishermen an opportunity to harvest higher trip limits for stocks tracking behind their projected OY and within projected mortality for overfished species. The reduction to the canary rockfish bycatch limit for the limited entry non-tribal whiting trawl fishery must be implemented in a timely manner by October 1, 2006, to keep mortality of canary rockfish, an overfished species, within its projection for the year. The increase to the widow rockfish bycatch limit for the limited entry non-tribal whiting trawl fishery must be implemented in a timely manner by October 1, 2006, to allow the take of the whiting allocation while keeping mortality of widow rockfish, an overfished species, within its projection for the year. Changes to the open access sablefish fishery north of 36° N. lat. must be implemented in a timely manner by October 1, 2006, to keep harvest of sablefish within the allocation for this fishery. Changes to the limited entry fixed gear and open access sablefish fishery south of 36° N. lat. must be implemented in a timely manner by October 1, 2006, to allow fishermen an opportunity to harvest higher trip limits for stocks tracking behind their projected OY and within projected mortality for overfished species. Changes to the recreational fishery must be implemented by October 1, 2006, in order to conform to existing state regulations and to keep recreational harvest within state harvest limits. Changes to the yelloweye rockfish recreational harvest guideline boundary must be implemented by October 1, 2006, to allow the states to take management action should a yelloweye rockfish recreational harvest guideline be reached before the end of the year. Delaying any of these changes would keep management measures in place that are not based on the best available data, which could risk fisheries exceeding their OY, or deny fishermen access to available harvest. This would impair managing fisheries to stay within the OYs for the year, or would impair achievement of one of the Pacific Coast Groundfish FMP objectives of providing for year-round harvest opportunities or extending fishing opportunities as long as practicable during the fishing year.

For these reasons, good cause also exists to waive the 30 day delay in effectiveness requirement under 5 U.S.C. 553 (d)(3).

List of Subjects in 50 CFR Part 660

Fisheries, Fishing, Indian fisheries.

Dated: September 27, 2006.
Alan D. Risenhoover,
Director, Office of Sustainable Fisheries, National Marine Fisheries Service.

For the reasons set out in the preamble, 50 CFR part 660 is amended as follows:

PART 660—FISHERIES OFF WEST COAST STATES

1. The authority citation for part 660 continues to read as follows:

Authority: 16 U.S.C. 1801 et seq.

2. In § 660.373, paragraph (b)(4) is revised to read as follows:

§ 660.373 Pacific whiting (whiting) fishery management.

* * * * *

(b) * * *

(4) 2005 2006 bycatch limits in the whiting fishery. The bycatch limits for the whiting fishery may be used inseason to close a sector or sectors of the whiting fishery to achieve the rebuilding of an overfished or depleted stock, under routine management measure authority at § 660.370 (c)(1)(ii). These limits are routine management measures under § 660.370 (c) and, as such, may be adjusted inseason or may have new species added to the list of those with bycatch limits. For 2005, the whiting fishery bycatch limits for the sectors identified § 660.323(a) are 4.7 mt of canary rockfish and 212 mt of widow rockfish. For 2006, the whiting fishery bycatch limits are 4.0 mt of canary rockfish, 220 mt of widow rockfish, and 25 mt of darkblotched rockfish.

* * * * *

3. In § 660.384, paragraph (c)(2)(iii) is revised to read as follows:

§ 660.384 Recreational fishery management measures.

* * * * *

(c) * * *

(2) * * *

(iii) Bag limits, size limits. The bag limits for each person engaged in recreational fishing in the EEZ seaward of Oregon are two lingcod per day, which may be no smaller than 24 in (61 cm) total length; and 6 marine fish per day, which excludes Pacific halibut, salmonids, tuna, perch species, sturgeon, sanddabs, lingcod, striped bass, hybrid bass, offshore pelagic species and baitfish (herring, smelt, anchovies and sardines), but which includes rockfish, greenling, cabezon and other groundfish species. In the Pacific halibut fisheries, retention of groundfish is governed in part by annual management measures for Pacific halibut fisheries, which are published in the Federal Register. Between the Oregon border with Washington and Cape Falcon, when Pacific halibut are onboard the vessel, groundfish may not be taken and retained, possessed or landed, except sablefish and Pacific cod. Between Cape Falcon and Humbug Mountain, during days open to the Oregon Central Coast “all-depth” sport halibut fishery, when Pacific halibut are onboard the vessel, no groundfish may be taken and retained, possessed or landed, except sablefish. “All-depth” season days are established in the annual management measures for Pacific halibut fisheries, which are published in the Federal Register and are announced on the NMFS halibut hotline, 1 800 662 9825. The minimum size limit for cabezon retained in the recreational fishery is 16 in (41 cm) and for greenling is 10 in (26 cm). Taking and retaining canary rockfish and yelloweye rockfish is prohibited at all times and in all areas. From October 1 through December 31, 2006, taking and retaining vermilion rockfish is prohibited in all areas by boat anglers.

* * * * *

4. In part 660, subpart G, Table 2b is revised to read as follows:

Table 2b to Part 660, Subpart G—2006, and Beyond, OYs for Minor Rockfish by Depth Subgroups (Weights in Metric Tons)

Species | Total Catch ABC | OY (Total Catch): Total Catch OY | OY (Total Catch): Recreational Estimate | OY (Total Catch): Commercial HG for minor rockfish and depth sub-groups | Harvest Guidelines (total catch): Limited Entry: Mt | Harvest Guidelines (total catch): Limited Entry: % | Harvest Guidelines (total catch): Open Access: Mt | Harvest Guidelines (total catch): Open Access: %
Minor Rockfish north cc/ | 3,680 | 2,250 | 78 | 2,172 | 1,992 | 91.7 | 180 | 8.3
Nearshore |  | 122 | 68 | 54 |  |  |  |
Shelf |  | 968 | 10 | 958 |  |  |  |
Slope |  | 1,160 | 0 | 1,160 |  |  |  |
Minor Rockfish south dd/ | 3,412 | 1,968 | 443 | 1,390 | 774 | 55.7 | 616 | 44.3
Nearshore ii/ |  | 615 | 383 | 97 |  |  |  |
Shelf |  | 714 | 60 | 654 |  |  |  |
Slope |  | 639 | 0 | 639 |  |  |  |
a/ ABCs apply to the U.S. portion of the Vancouver area, except as noted under individual species.
b/ Lingcod was declared overfished on March 3, 1999. A coastwide stock assessment was prepared in 2003. Lingcod was believed to be at 25 percent of its unfished biomass coastwide in 2002, 31 percent in the north and 19 percent in the south. The ABC projection for 2006 is 2,716 mt and was calculated using an FMSY proxy of F45%. The total catch OY of 2,414 mt (the sum of 1,891 mt in the north and 612 mt in the south) is based on the rebuilding plan with a 70 percent probability of rebuilding the stock to BMSY by the year 2009 (TMAX). The harvest control rule will be F=0.17 in the north and F=0.15 in the south. Out of the OY, it is estimated that 693 mt will be taken in the recreational fishery, 7.2 mt will be taken during research activity, and 2.8 mt will be taken in non-groundfish fisheries. Under the 2006 management measures, it is anticipated that 214.7 mt will be taken in the commercial fisheries (which is being set as a commercial HG), leaving a residual amount of 1,496.3 mt to be used as necessary during the fishing year. There is a recreational harvest guideline of 271 mt for the area north of 42° N. lat. and a recreational harvest guideline of 422 mt for the area south of 42° N. lat. The tribes do not have a specific allocation at this time, but are expected to take 25.1 mt of the commercial HG.
c/ “Other species”, these are neither common nor important to the commercial and recreational fisheries in the areas footnoted. Accordingly, Pacific cod is included in the non-commercial HG of “other fish” and rockfish species are included in either “other rockfish” or “remaining rockfish” for the areas footnoted.
d/ Pacific Cod - The 3,200 mt ABC is based on historical landings data and is set at the same level as it was in 2004. The 1,600 mt OY is the ABC reduced by 50 percent as a precautionary adjustment. The OY is reduced by 400 mt for the tribal harvest guideline, resulting in a commercial harvest guideline of 1,200 mt.
e/ Pacific whiting - The most recent stock assessment was prepared in early 2006, and the whiting biomass was estimated to be between 31 percent and 38 percent of its unfished biomass. The U.S. ABC of 518,294 mt is based on the 2006 assessment results with the application of an FMSY proxy harvest rate of 40%. The U.S. ABC is 73.88 percent of the coastwide ABC. The U.S. total catch OY is being set at 269,069 mt. The total catch OY is reduced by 35,000 mt for the tribal allocation, 200 mt for the amount estimated to be taken during research fishing, and 1,800 mt for the estimated catch in non-groundfish fisheries, resulting in a commercial OY of 232,069 mt. The commercial OY is allocated between the sectors with 42 percent (97,469 mt) going to the shore-based sector, 34 percent (78,903 mt) going to the catcher/processor sector, and 24 percent (55,696 mt) going to the mothership sector. Discards of whiting are estimated from the observer data and counted towards the OY inseason.
f/ Sablefish north of 36° N. lat. - A coastwide sablefish stock assessment was prepared in 2001 and updated for 2002. Following the 2002 stock assessment update, the sablefish biomass north of 34°27′ N. lat. was believed to be between 31 percent and 38 percent of its unfished biomass. The coastwide ABC of 8,175 mt is based on environmentally driven projections with the FMSY proxy of F45%. The ABC for the management area north of 36° N. lat. is 7,885 mt (96.45 percent of the coastwide ABC). The coastwide OY of 7,634 mt (the sum of 7,363 mt in the north and 271 mt in the south) is based on the density-dependent model and the application of the 40-10 harvest policy. The total catch OY for the area north of 36° N. lat is 7,363 mt and is 96.45 percent of the coastwide OY. The OY is reduced by 10 percent (736 mt) for the tribal allocation. Out of the remaining OY, 86 mt will be taken during research activity, and 19 mt will be taken in non-groundfish fisheries, resulting in a commercial HG of 6,522 mt. The open access allocation is 9.4 percent (613 mt) of the commercial HG and the limited entry allocation is 90.6 percent (5,909 mt) of the commercial HG. The limited entry allocation is further divided with 58 percent (3,427 mt) allocated to the trawl fishery and 42 percent (2,482 mt) allocated to the fixed-gear fishery. To provide for bycatch in the at-sea whiting fishery, 15 mt of the limited entry trawl allocation will be set aside.
g/ Sablefish south of 36° N. lat. - The ABC of 290 mt is 3.55 percent of the ABC from the 2002 coastwide stock assessment update. The total catch OY of 271 mt is 3.55 percent of the OY from the 2002 coastwide stock assessment update. There are no limited entry or open access allocations in the Conception area at this time.
h/ Cabezon was first assessed in 2003 and was believed to be at 34.7 percent of its unfished biomass. The ABC of 108 mt is based on a harvest rate proxy of F45%. The OY of 69 mt is based on a constant harvest level for 2005 and 2006.
i/ Dover sole north of 34°27′ N. lat. was assessed in 2001 and was believed to be at 29 percent of its unfished biomass. The ABC of 8,589 mt is the 2006 projection from the 2001 assessment with an FMSY proxy of F40%. Because the biomass is estimated to be in the precautionary zone, the 40-10 harvest rate policy was applied, resulting in a total catch OY of 7,564 mt. The OY is reduced by 60 mt for the amount estimated to be taken as research catch, resulting in a commercial HG of 7,504 mt.
j/ English sole - Research catch is estimated to be 9.7 mt.
k/ Petrale sole was believed to be at 42 percent of its unfished biomass following a 1999 stock assessment. For 2006, the ABC for the Vancouver-Columbia area (1,262 mt) is based on a four year average projection from 2000-2003 with a F40% FMSY proxy. The ABCs for the Eureka, Monterey, and Conception areas (1,500 mt) are based on historical landings data and continue at the same level as 2005. Management measures to constrain the harvest of overfished species have reduced the availability of these stocks to the fishery during the past several years. Because the harvest assumptions (from the most recent stock assessment in the Vancouver-Columbia area) used to forecast future harvest were likely overestimates, carrying the previously used ABCs and OYs forward into 2006 was considered to be conservative and based on the best available data. Research catch is estimated to be 2.9 mt and will be taken out of the OY.
l/ Arrowtooth flounder was last assessed in 1993 and was believed to be above 40 percent of its unfished biomass. Research catch is estimated to be 13.6 mt and will be taken out of the OY.
m/ Other flatfish are those species that do not have individual ABC/OYs and include butter sole, curlfin sole, flathead sole, Pacific sand dab, rex sole, rock sole, sand sole, and starry flounder. The ABC is based on historical catch levels. The ABC of 6,781 mt is based on the highest landings for sanddabs (1995) and rex sole (1982) for the 1981-2003 period and on the average landings from the 1994-1998 period for the remaining other flatfish species. The OY of 4,909 mt is based on the ABC with a 25 percent precautionary adjustment for sanddabs and rex sole and a 50 percent precautionary adjustment for the remaining species. Research catch is estimated to be 20.5 mt and will be taken out of the OY.
n/ POP was declared overfished on March 3, 1999. A stock assessment was prepared in 2003 and POP was determined to be at 25 percent of its unfished biomass. The ABC of 934 mt was projected from the 2003 stock assessment and is based on an FMSY proxy of F50%. The OY of 447 mt is based on a 70 percent probability of rebuilding the stock to BMSY by the year 2042 (TMAX). The harvest control rule will be F=0.0257. Out of the OY it is anticipated that 4.6 mt will be taken during research activity and 102.6 mt in the commercial fishery (which is being set as a commercial HG), leaving a residual amount of 339.8 mt to be used as necessary during the fishing year.
o/ Shortbelly rockfish remains as an unexploited stock and is difficult to assess quantitatively. A 1989 stock assessment provided 2 alternative yield calculations of 13,900 mt and 47,000 mt. NMFS surveys have shown poor recruitment in most years since 1989, indicating low recent productivity and a naturally declining population in spite of low fishing pressure. The ABC and OY therefore are set at 13,900 mt, the low end of the range in the stock assessment. The available OY is reduced by 12 mt for the amount estimated to be taken as research catch, resulting in a commercial HG of 13,888 mt.
p/ The widow rockfish stock was declared overfished on January 11, 2001 (66 FR 2338). The most recent stock assessment was prepared for widow rockfish in 2003. The spawning stock biomass is believed to be at 22.4 percent of its unfished biomass in 2002. The ABC of 3,059 mt is based an F50% FMSY proxy. The 289 mt OY is based on a 60 percent probability of rebuilding the stock to BMSY by the year 2042 (TMAX). The harvest control rule is F=0.0093. Out of the OY, it is anticipated that 1.0 mt will be taken during the research activity, 2.3 mt will be taken in the recreational fishery, 0.1 mt will be taken in non-groundfish fisheries, and 285.6 mt will be taken in the commercial fishery (which is being set as the commercial HG). Specific open access/limited entry allocations have been suspended during the rebuilding period as necessary to meet the overall rebuilding target while allowing harvest of healthy stocks. Tribal vessels are estimated to land about 40 mt of widow rockfish in 2006, but do not have a specific allocation at this time. The widow rockfish bycatch limit for the commercial Pacific whiting fisheries is 200 mt. This amount may be adjusted via inseason action.
q/ Canary rockfish was declared overfished on January 4, 2000 (65 FR 221). A stock assessment was completed in 2002 for canary rockfish and the stock was believed to be at 8 percent of its unfished biomass coastwide in 2001. The coastwide ABC of 279 mt is based on a FMSY proxy of F50%. The coastwide OY of 47.1 mt is based on the rebuilding plan, which has a 60 percent probability of rebuilding the stock to BMSY by the year 2076 (TMAX) and a catch sharing arrangement that has 58 percent of the OY going to the commercial fisheries and 42 percent going to the recreational fisheries. The harvest control rule will be F=0.0220. Out of the OY, it is anticipated that 2.7 mt will be taken during the research activity, 17.8 mt will be taken in the recreational fishery, 2.1 mt will be taken in non-groundfish fisheries, and 22.7 mt will be taken in the commercial fishery (which is being set as the commercial HG), leaving a residual amount of 1.8 mt. The residual amount will be further divided with 0.9 mt being available as needed for the recreational and 0.9 mt being available as needed for the commercial fisheries. A recreational HG for the area north of 42° N. lat. will be 8.5 mt. For the area south of 42° N. lat., the recreational HG will be 9.3 mt. Specific open access/limited entry allocations have been suspended during the rebuilding period as necessary to meet the overall rebuilding target while allowing harvest of healthy stocks. Tribal vessels are estimated to land about 2.6 mt of canary rockfish under the commercial HG, but do not have a specific allocation at this time. The canary rockfish bycatch limit for the commercial Pacific whiting fisheries is 4.7 mt. This amount may be adjusted via inseason action.
r/ Chilipepper rockfish - the ABC (2,700 mt) for the Monterey-Conception area is based on a three year average projection from 1999-2001 with a F50% FMSY proxy. Because the unfished biomass is believed to be above 40 percent, the default OY could be set equal to the ABC. However, the OY is set at 2,000 mt to discourage effort on chilipepper, which is taken with bocaccio. Management measures to constrain the harvest of overfished species have reduced the availability of these stocks to the fishery during the past several years. Because the harvest assumptions (from the most recent stock assessment) used to forecast future harvest were likely overestimates, carrying the previously used ABCs and OYs forward into 2006 was considered to be conservative and based on the best available data. The OY is reduced by 15 mt for the amount estimated to be taken in the recreational fishery and 21 mt for the amount estimated to be taken during research activity, resulting in a commercial HG of 1,964 mt. Open access is allocated 44.3 percent (870 mt) of the commercial HG and limited entry is allocated 55.7 percent (1,094 mt) of the commercial HG.
s/ Bocaccio was declared overfished on March 3, 1999. A new stock assessment and a new rebuilding analysis were prepared for bocaccio in 2003. The bocaccio stock was believed to be at 7.4 percent of its unfished biomass in 2002. The ABC of 549 mt is based on a F50% FMSY proxy. The OY of 308 mt is based on the rebuilding analysis and has a 70 percent probability of rebuilding the stock to BMSY by the year 2032 (TMAX). The harvest control rule is F=0.0498. Out of the OY, it is anticipated that 0.6 mt will be taken during the research activity, 43.0 mt will be taken in the recreational fishery, 1.3 mt will be taken in non-groundfish fisheries, and 75.2 mt will be taken in the commercial fishery (which is being set as the commercial HG), leaving a residual amount of 187.9 mt to be used as necessary during the fishing year.
t/ Splitnose rockfish - The ABC is 615 mt in the southern area (Monterey-Conception). The 461 mt OY for the southern area reflects a 25 percent precautionary adjustment because of the less rigorous stock assessment for this stock. In the north, splitnose is included in the minor slope rockfish OY. Because the harvest assumptions (from the most recent stock assessment) used to forecast future harvest were likely overestimates, carrying the previously used ABCs and OYs forward into 2006 was considered to be conservative and based on the best available data.
u/ Yellowtail rockfish - A yellowtail rockfish stock assessment was prepared in 2003 for the Vancouver-Columbia-Eureka areas. Yellowtail rockfish was believed to be at 46 percent of its unfished biomass in 2002. The ABC of 3,681 mt is based on the 2003 stock assessment with the FMSY proxy of F50%. The OY of 3,681 mt was set equal to the ABC, because the stock is above the precautionary threshold. The OY is reduced by 15 mt for the amount estimated to be taken in the recreational fishery, 5 mt for the amount estimated to be taken during research activity, and 6 mt for the amount taken in non-groundfish fisheries, resulting in a commercial HG of 3,655 mt. The open access allocation (303 mt) is 8.3 percent of the commercial HG. The limited entry allocation (3,352 mt) is 91.7 percent the commercial HG. Tribal vessels are estimated to land about 506 mt of yellowtail rockfish in 2006, but do not have a specific allocation at this time.
v/ Shortspine thornyhead was last assessed in 2001 and the stock was believed to be between 25 and 50 percent of its unfished biomass. The ABC (1,077 mt) for the area north of Pt. Conception (34°27′ N. lat.) is based on a F50% FMSY proxy. The OY of 1,018 mt is based on the 2001 survey with the application of the 40-10 harvest policy. The OY is reduced by 7 mt for the amount estimated to be taken during research activity, resulting in a commercial HG of 1,011 mt. Open access is allocated 0.27 percent (27 mt) of the commercial HG and limited entry is allocated 99.73 percent (984 mt) of the commercial HG. There is no ABC or OY for the southern Conception area. Tribal vessels are estimated to land about 6.6 mt of shortspine thornyhead in 2006, but do not have a specific allocation at this time.
w/ Longspine thornyhead north of 36° N. lat. is believed to be above 40 percent of its unfished biomass. The ABC (2,461 mt) in the north (Vancouver-Columbia-Eureka-Monterey) is based on a F50% FMSY proxy. Because the harvest assumptions (from the most recent stock assessment) used to forecast future harvest were likely overestimates, carrying the previously used ABCs and OYs forward into 2006 was considered to be conservative and based on the best available data. The total catch OY (2,461 mt) is set equal to the ABC. The OY is reduced by 12 mt for the amount estimated to be taken during research activity, resulting in a commercial HG of 2,449 mt.
x/ Longspine thornyhead south of 36° - A separate ABC (390 mt) is established for the Conception area and is based on historical catch for the portion of the Conception area north of 34°27′ N. lat. (Point Conception). To address uncertainty in the stock assessment due to limited information, the ABC was reduced by 50 percent to obtain the OY, 195 mt. There is no ABC or OY for the southern Conception Area.
y/ Cowcod in the Conception area was assessed in 1999 and was believed to be less than 10 percent of its unfished biomass. Cowcod was declared as overfished on January 4, 2000 (65 FR 221). The ABC in the Conception area (5 mt) is based on the 1999 stock assessment, while the ABC for the Monterey area (19 mt) is based on average landings from 1993-1997. The OY of 4.2 mt (2.1 mt in each area) is based on the rebuilding plan adopted under Amendment 16-3, which has a 60 percent probability of rebuilding the stock to BMSY by the year 2099 (TMAX). The harvest control rule is F=0.009. Cowcod retention will not be permitted in 2006. The OY will be used to accommodate discards of cowcod rockfish resulting from incidental take.
z/ Darkblotched rockfish was assessed in 2000 and a stock assessment update was prepared in 2003. Darkblotched rockfish was declared overfished on January 11, 2001 (66 FR 2338). Following the 2003 stock assessment update, the darkblotched rockfish stock was believed to be at 11 percent of its unfished biomass. A new darkblotched rockfish assessment was prepared for 2005. The 2005 darkblotched rockfish stock assessment found that darkblotched has been rebuilding at a faster rate than had been shown in the 2003 stock assessment. The ABC of 294 mt was projected from the 2003 assessment update and is based on an FMSY proxy of F50%. The 2006 OY will be 200 mt. This OY is 94 mt below the 294 mt OY originally in place for 2006, which was based on the rebuilding plan adopted under Amendment 16-2 and a harvest control rule of F=0.032 [69 FR 77012.] Based on the results of the 2005 assessment, NMFS estimates that reducing the 2006 OY to 200 mt is projected to rebuild the darkblotched rockfish stock to BMSY by March 2010, as compared to the July 2010 rebuilding date that was projected with a 294 mt OY. Out of the OY, it is anticipated that 5.2 mt will be taken during research activity, leaving 194.8 mt available to the commercial fishery.
aa/ Yelloweye rockfish was assessed in 2001 and updated for 2002. On January 11, 2002, yelloweye rockfish was declared overfished (67 FR 1555). In 2002 following the stock assessment update, yelloweye rockfish was believed to be at 24.1 percent of its unfished biomass coastwide. The 55 mt coastwide ABC is based on an FMSY proxy of F50%. The OY of 27 mt, based on a revised rebuilding analysis (August 2002) and the rebuilding plan proposed under Amendment 16-3, have a 80 percent probability of rebuilding to BMSY by the year 2071 (TMAX) and a harvest control rule of F=0.0153. Out of the OY, it is anticipated that 10.4 mt will be taken in the recreational fishery (the HG for the area north of 42° N. lat. is 6.7 mt and the HG for the area south of 42° N. lat. is 3.7 mt), 1.0 mt will be taken during research activity, 0.8 mt will be taken in non-groundfish fisheries and 6.4 mt will be taken in the commercial fishery (which is being set as a commercial HG), leaving a residual amount of 8.4 mt to be used as necessary during the fishing year. Tribal vessels are estimated to land about 2.3 mt of yelloweye rockfish of the commercial HG in 2006, but do not have a specific allocation at this time.
bb/ Black rockfish was last assessed in 2003 for the Columbia and Eureka area and in 2000 for the Vancouver area. The ABC for the area north of 46°16′ N. lat. is 540 mt and the ABC for the area south of 46°16′ N. lat. is 736 mt. Because of an overlap in the assessed areas between Cape Falcon and the Columbia River, projections from the 2000 stock assessment were adjusted downward by 12 percent to account for the overlap. The ABCs were derived using an FMSY proxy of F50%. The unfished biomass is believed to be above 40 percent. Therefore, the OYs were set equal to the ABCs, 540 mt for the area north of 46°16′ N. lat. and 736 mt for the area south of 46°16′ N. lat. A harvest guideline of 30,000 lb (13.6 mt) is set for the tribes. The black rockfish OY in the area south of 46°16′ N. lat. is subdivided with separate HGs being set for the area north of 42° N. lat (427 mt/58 percent) and for the area south of 42° N. lat (309 mt/42 percent). For the 427 mt attributed to the area north of 42° N. lat. 290-360 mt is estimated to be taken in the recreational fishery, resulting in a commercial HG of 67-137 mt. A range is being provided because the recreational and commercial shares are not currently available. Of the 309 mt of black rockfish attributed to the area south of 42° N. lat., a HG of 185 mt (60 percent) will be applied to the area north of 40°10′ N. lat. and a HG of 124 mt (40 percent) will be applied to the area south of 40°10′ N. lat. For the area between 42° N. lat. and 40°10′ N. lat., 74 mt is estimated to be taken in the recreational fishery, resulting in a commercial HG of 111 mt. For the area south of 40°10′ N. lat., 101 mt is estimated to be taken in the recreational fishery, resulting in a commercial HG of 23 mt. Black rockfish was included in the minor rockfish north and other rockfish south categories until 2004.
cc/ Minor rockfish north includes the “remaining rockfish” and “other rockfish” categories in the Vancouver, Columbia, and Eureka areas combined. These species include “remaining rockfish”, which generally includes species that have been assessed by less rigorous methods than stock assessments, and “other rockfish”, which includes species that do not have quantifiable stock assessments. The ABC of 3,680 mt is the sum of the individual “remaining rockfish” ABCs plus the “other rockfish” ABCs. The remaining rockfish ABCs continue to be reduced by 25 percent (F=0.75M) as a precautionary adjustment. To obtain the total catch OY of 2,250 mt, the remaining rockfish ABCs were further reduced by 25 percent and other rockfish ABCs were reduced by 50 percent. This was a precautionary measure to address limited stock assessment information. The OY is reduced by 78 mt for the amount estimated to be taken in the recreational fishery, resulting in a 2,172 mt commercial HG. Open access is allocated 8.3 percent (180 mt) of the commercial HG and limited entry is allocated 91.7 percent (1,992 mt) of the commercial HG. Tribal vessels are estimated to land about 28 mt of minor rockfish in 2006, but do not have a specific allocation at this time.
dd/ Minor rockfish south includes the “remaining rockfish” and “other rockfish” categories in the Monterey and Conception areas combined. These species include “remaining rockfish” which generally includes species that have been assessed by less rigorous methods than stock assessment, and “other rockfish” which includes species that do not have quantifiable stock assessments. The ABC of 3,412 mt is the sum of the individual “remaining rockfish” ABCs plus the “other rockfish” ABCs. The remaining rockfish ABCs continue to be reduced by 25 percent (F=0.75M) as a precautionary adjustment. To obtain a total catch OY of 1,968 mt, the remaining rockfish ABCs are further reduced by 25 percent, with the exception of blackgill rockfish, the other rockfish ABCs were reduced by 50 percent. This was a precautionary measure due to limited stock assessment information. The OY is reduced by 443 mt for the amount estimated to be taken in the recreational fishery, resulting in a 1,525 mt HG for the commercial fishery. Open access is allocated 44.3 percent (676 mt) of the commercial HG and limited entry is allocated 55.7 percent (849 mt) of the commercial HG.
ee/ Bank rockfish -- The ABC is 350 mt, which is based on a 2000 stock assessment for the Monterey and Conception areas. This stock contributes 263 mt towards the minor rockfish OY in the south.
ff/ Blackgill rockfish was believed to be at 51 percent of its unfished biomass in 1997. The ABC of 343 mt is the sum of the Conception area ABC of 268 mt, based on the 1998 stock assessment with an FMSY proxy of F50%, and the Monterey area ABC of 75 mt. This stock contributes 306 mt towards minor rockfish south (268 mt for the Conception area ABC and 38 mt for the Monterey area). The OY for the Monterey area is the ABC reduced by 50 percent as a precautionary measure because of the lack of information.
gg/ “Other rockfish” includes rockfish species listed in 50 CFR 660.302 and California scorpionfish. The ABC is based on the 1996 review of commercial Sebastes landings and includes an estimate of recreational landings. These species have never been assessed quantitatively. The amount expected to be taken during research activity is reduced by 22.1 mt.
hh/ “Other fish” includes sharks, skates, rays, ratfish, morids, grenadiers, kelp greenling, and other groundfish species noted above in footnote c/. The amount expected to be taken during research activity is 55.7 mt.
ii/ Minor nearshore rockfish south - The total catch OY is 615 mt. Out of the OY it is anticipated that the recreational fishery will take 383 mt, and 97 mt will be taken by the commercial fishery (which is being set as a commercial HG), leaving a residual amount of 135 mt to be used as necessary during the fishing year.

5. In part 660, subpart G, Table 3 (North) and Table 3 (South) are revised to read as follows:

Table 3 (North) to Part 660, Subpart G—2006 Trip Limits for Limited Entry Trawl Gear North of 40°10′ N. Lat.

BILLING CODE 3510-22-S

Table 3 (South) to Part 660, Subpart G—2006 Trip Limits for Limited Entry Trawl Gear South of 40°10′ N. Lat.

6. In part 660, subpart G, Table 4 (South) is revised to read as follows:

Table 4 (South) to Part 660, Subpart G—2006 Trip Limits for Limited Entry Fixed Gear South of 40°10′ N. Lat.

7. In part 660, subpart G, Table 5 (North) and Table 5 (South) are revised to read as follows:

Table 5 (North) to Part 660, Subpart G—2006 Trip Limits for Open Access Gears North of 40°10′ N. Lat.

Table 5 (South) to Part 660, Subpart G—2006 Trip Limits for Open Access Gears South of 40°10′ N. Lat.

[FR Doc. 06-8402 Filed 9-28-06; 2:45 pm]

BILLING CODE 3510-22-C